DEPARTMENT OF JUSTICE

Antitrust Division

Notice Pursuant to the National Cooperative Research and Production Act of 1993—The Advanced Film Capacitor Consortium

Notice is hereby given that, on June 10, 2003, pursuant to section 6(a) of the National Cooperative Research and Production Act of 1993, 15 U.S.C. 4301 et seq. (“the Act”), The Advanced Film Capacitor Consortium has filed written notifications simultaneously with the Attorney General and the Federal Trade Commission disclosing (1) the identities of the parties and (2) the nature and objectives of the venture. The notification were filed for the purpose of invoking the Act's provisions limiting the recovery of antitrust plaintiffs to actual damages under specified circumstances. Pursuant to section 6(b) of the Act, the identities of the parties are Ohio Aerospace Institute, Cleveland, OH; Lithium Power Technologies, Inc., Manvel, TX; Dupont Teijin Films US L.P., Hopewell, VA; Parallax Power Components, L.L.C., Bridgeport, CT; and Case Western Reserve University, Cleveland, OH. The nature and objectives of the venture are to research in the area of dielectric polymer film technology which will lead to the development of smaller, lighter, more portable electrical equipment. The participants are joining together to collaborate to accelerate the development of this technology.

Constance K. Robinson,
Director of Operations, Antitrust Division.

[FR Doc. 03-17909 Filed 7-15-03; 8:45 am]

BILLING CODE 4410-11-M